DEPARTMENT OF ENERGY

Federal Energy Regulatory Commission

[Project No. 7264-010-WI]

Fox Paper Company and N.E.W. Hydro, Inc.; Notice of Availability of Environmental Assessment

May 5, 2005.

In accordance with the National Environmental Policy Act of 1969, as amended, and Federal Energy Regulatory Commission's regulations, 18 CFR part 380 (Order No. 486, 52 FR 47879), the Office of Energy Projects has reviewed the application for a subsequent license for the Middle Appleton Dam Hydroelectric Project located on the Lower Fox River, in Outagamie County, Wisconsin, and has prepared an Environmental Assessment (EA). The EA analyzes the potential environmental effects of licensing the project and concludes that issuing a subsequent license for this project, with appropriate environmental measures, would not constitute a major Federal action that would significantly affect the quality of the human environment.

A copy of the EA is on file with the Commission and is available for public inspection. The EA may also be viewed on the Commission's Web site at http://www.ferc.gov using the “eLibrary” link. Enter the docket number excluding the last three digits in the docket number field to access the document. For assistance, contact or FERCOnlineSupport@ferc.gov call toll-free at (866) 208-3676, or for TTY contact (202) 502-8659.

Any comments should be filed within 30 days from the date of this notice and should be addressed to the Secretary, Federal Energy Regulatory Commission, 888 First Street, NE., Room 1-A, Washington, DC 20426. Please affix “Middle Appleton Dam Hydroelectric Project No. 7264-010” on all comments. Comments may be filed electronically via Internet in lieu of paper. See 18 CFR 385.2001(a)(1)(iii) and the instructions on the Commission's Web site under the “eFiling” link. For further information, contact John Ramer at (202) 502-8969.

Magalie R. Salas,
Secretary.

[FR Doc. E5-2316 Filed 5-11-05; 8:45 am]

BILLING CODE 6717-01-P